DEPARTMENT OF HOMELAND SECURITY

U.S. Citizenship and Immigration Services

Agency Information Collection Activities: Reinstatement of a Previously Approved Information Collection; Comments Request

ACTION: 30-Day notice of information collection under review: Medical Certification for Disability Exceptions, Form N-648.

The Department of Homeland Security, U.S. Citizenship and Immigration Services (USCIS) has submitted the following information collection request to the Office of Management and Budget (OMB) for review and clearance in accordance with the Paperwork Reduction Act of 1995. The information collection was previously published in the Federal Register on April 4, 2005, at 70 FR 17110. The USCIS received one comment on this information collection. The commenter stated that an instrument of consent should be added to the Form N-648. The USCIS reviewed the Form N-648 and concluded that the current form contains a section for consent purposes.

The purpose of this notice is to allow an additional 30 days for public comments. Comments are encouraged and will be accepted until July 14, 2005. This process is conducted in accordance with 5 CFR 1320.10.

Written comments and suggestions from the public and affected agencies concerning the collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Reinstatement of a previously approved collection.

(2) Title of the Form/Collection: Medical Certification for Disability Exceptions.

(3) Agency Form Number, if Any, and the Applicable Component of the Department of Homeland Security Sponsoring the Collection: Form N-648, U.S. Citizenship and Immigration Services.

(4) Affected Public Who Will Be Asked or Required To Respond, as Well as a Brief Abstract: Primary: Individuals or Households. These medical certifications will be used to support an applicant's claim to an exception of the literacy and history/government knowledge requirements found in section 312 of the Immigration and Nationality Act. These certifications which are executed by licensed health care providers are needed to support the applicant's claim of an exception to this naturalization requirement.

(5) An Estimate of the Total Number of Respondents and the Amount of Time Estimated for an Average Respondent To respond: 20,000 responses at two (2) hours per response.

(6) An estimate of the Total Public Burden (in Hours) Associated With the Collection: 40,000 and annual burden hours.

If you have comments, suggestions, or need a copy of the information collection instrument, please contact Richard A. Sloan, Director, Regulatory Management Division, U.S. Citizenship and Immigration Services, 111 Massachusetts Avenue, NW., Washington, DC 20529; (202) 272-8377.

Dated: June 9, 2005.
Richard A. Sloan,
Director, Regulatory Management Division, U.S. Citizenship and Immigration Services.

[FR Doc. 05-11685 Filed 6-13-05; 8:45 am]

BILLING CODE 4410-10-M